DEPARTMENT OF HOMELAND SECURITY

Coast Guard

33 CFR Part 165

[Docket No. USCG-2012-0707]

RIN 1625-AA87

Security Zones; 2012 RNC Bridge Security Zones, Captain of the Port St. Petersburg Zone, Tampa, FL

AGENCY: Coast Guard, DHS.

ACTION: Temporary final rule.

SUMMARY: The Coast Guard is establishing fifteen temporary security zones around certain bridges on the waters of Pinellas County and Tampa Bay, Florida, during the 2012 Republican National Convention, from August 25, 2012, to August 31, 2012. The security zones are necessary to protect convention delegates, official parties, dignitaries, the public, and surrounding waterways from terrorist acts, sabotage or other subversive acts, accidents, or other causes of a similar nature, intended to harm people, damage property, or disrupt the proceedings of the 2012 Republican National Convention. All persons and vessels are prohibited from loitering, anchoring, stopping, or mooring on waters within 50 yards of the designated bridges during the times that the security zones will be enforced for each bridge. Expeditious transiting through the security zones is authorized.

This rule establishes security zones around the following bridges: the Gandy Bridge; Howard Franklin Bridge; Courtney Campbell Causeway Bridge; the Clearwater Memorial Causeway (60); Sand Key Bridge (699); Belleair Causeway Bridge; Walsingham Rd Bridge (688); Park Blvd. (co Rd 694); Welch Causeway (Tom Stuart Causeway/150th Ave); Seminole Bridge (Bay Pines Blvd./19/595); Johns Pass Bridge (Gulf Blvd./699); Treasure Island Causeway (Central Ave); Corey Causeway (Pasadena Ave); Blind Pass Bridge (699); and Pinellas Bayway Structures A, B, and C.

DATES: This rule is effective from 12:01 p.m. on Saturday, August 25, 2012, through 1:00 a.m. on Friday, August 31, 2012.

ADDRESSES: Documents mentioned in this preamble are part of docket USCG-2012-0707. To view documents mentioned in this preamble as being available in the docket, go to http://www.regulations.gov, type the docket number in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this rule, call or email Marine Science Technician First Class Nolan L. Ammons, Sector St. Petersburg Prevention Department, Coast Guard; telephone (813) 228-2191, email D07-SMB-Tampa-WWM@uscg.mil. If you have questions on viewing the docket, call Renee V. Wright, Program Manager, Docket Operations, telephone (202) 366-9826.

SUPPLEMENTARY INFORMATION:

Table of Acronyms

DHS Department of Homeland Security

FR Federal Register

NPRM Notice of Proposed Rulemaking

A. Regulatory Information

The Coast Guard is issuing this temporary final rule without prior notice and opportunity to comment pursuant to authority under section 4(a) of the Administrative Procedure Act (APA) (5 U.S.C. 553(b)). This provision authorizes an agency to issue a rule without prior notice and opportunity to comment when the agency for good cause finds that those procedures are “impracticable, unnecessary, or contrary to the public interest.” Under 5 U.S.C. 553(b)(B), the Coast Guard finds that good cause exists for not publishing a notice of proposed rulemaking (NPRM) with respect to this rule because the Coast Guard did not receive notice of the need to establish these security zones until July 18, 2012. As a result, the Coast Guard did not have sufficient time to publish an NPRM and to receive public comments prior to implementation of the security zones. Any delay in the effective date of this rule would be contrary to the public interest because immediate action is needed to minimize potential danger to the convention delegates, official parties, dignitaries, the public, and surrounding waterways.

For the same reason discussed above, under 5 U.S.C. 553(d)(3) the Coast Guard finds that good cause exists for making this rule effective less than 30 days after publication in the Federal Register.

B. Basis and Purpose

The legal basis for the rule is the Coast Guard's authority to establish regulated navigation areas and other limited access areas: 33 U.S.C. 1226, 1231; 46 U.S.C. Chapter 701, 3306, 3703; 50 U.S.C. 191, 195; 33 CFR 1.05-1, 6.04-1, 6.04-6, 160.5; Public Law 107-295, 116 Stat. 2064; Department of Homeland Security Delegation No. 0170.1.

The purpose of this rule is to protect convention delegates, official parties, dignitaries, the public, and surrounding waterways from terrorist acts, sabotage or other subversive acts, accidents, or other causes of a similar nature, intended to harm people, damage property, or disrupt the proceedings of the 2012 Republican National Convention.

C. Discussion of Rule

The Secretary of the Department of Homeland Security has designated the 2012 Republican National Convention as a National Special Security Event. National Special Security Events are significant events, which, due to their political, economic, social, or religious significance, may render them particularly attractive targets of terrorism or other criminal activity. The Federal government provides support, assistance, and resources to state and local governments to ensure public safety and security during National Special Security Events.

Numerous Federal, State, and local agencies, including the U.S. Secret Service, Federal Bureau of Investigation, Customs and Border Protection, U.S. Coast Guard, and the Joint Terrorism Task Force, have developed comprehensive security plans to protect participants and the public during the Republican National Convention. As part of the comprehensive effort, the maritime security objective is to protect Convention participants, the maritime transportation system, and maritime stakeholders, including recreational boaters, from threats and security vulnerabilities. The Coast Guard and other Federal, State, and local agencies involved in security for the 2012 Republican National Convention have conducted threat, vulnerability, and risk analyses relating to the event.

The convention is expected to draw widespread protests by persons dissatisfied with national policy, foreign policy, and the Republican Party agenda. This politically-oriented event has the potential to attract anarchists and others persons intent on expressing their opposition through violence and criminal activity. The convention also may present an attractive target for terrorist and extremist organizations. Current analysis indicates that some activist groups are planning maritime activities to make their political views known.

Maritime security vulnerabilities during the 2012 Republican National Convention extend beyond the Convention site and include secondary venues throughout the Tampa Bay area. The geography of the Tampa Bay region makes these fifteen bridges a vital component of the regional transportation network. Dignitaries, delegates, and participants at the Convention will be required to travel across these bridges to reach secondary venue locations. Further, dignitaries, delegates, and participants in the Republican National Convention will be staying at numerous hotels in Clearwater, St. Petersburg, and other areas. This will require those persons to make daily transits across the bridges spanning Tampa Bay and the Inter-Coastal Waterway to attend the Convention and associated events.

These fifteen security zones, developed in conjunction with comprehensive security planning and actions by other agencies, will assist in the safe and secure transportation of dignitaries and delegates to the Convention. In addition, the security zones will prevent disruption of these vital components of the region's transportation network that may be caused by violent protesters and other groups drawn to this event. In addition, the security zones will prevent persons from using the bridges and surrounding waters to stop or impede maritime traffic during the event.

The security zones and accompanying security measures have been specifically developed to mitigate the threats and vulnerabilities identified in the analysis discussed above. Security measures have been limited to the minimum necessary to mitigate risks associated with the identified threats.

This rule will establish temporary security zones around fifteen bridges in the Captain of the Port St. Petersburg area during the 2012 Republican National Convention in Tampa, Florida. This rule is effective from 12:01 p.m. on Saturday, August 25, 2012, through 1:00 a.m. on Friday, August 31, 2012.

All persons and vessels are prohibited from loitering, anchoring, stopping, or mooring under or within 50 yards of either side of the designated bridges. Expeditious transiting through the security zones is authorized. The security zones will be enforced 24-hours a day for the Gandy Bridge, Howard Franklin Bridge, and Courtney Campbell Causeway Bridge.

The remaining security zones will be established around: The Clearwater Memorial Causeway (60); Sand Key Bridge (699); Belleair Causeway Bridge; Walsingham Rd Bridge (688); Park Blvd.(co Rd 694); Welch Causeway (Tom Stuart Causeway/150th Ave); Seminole Bridge (Bay Pines Blvd./19/595); Johns Pass Bridge (Gulf Blvd./699); Treasure Island Causeway (Central Ave); Corey Causeway (Pasadena Ave); Blind Pass Bridge (699); and Pinellas Bayway Structures A, B, and C. These security zones will be enforced for other bridges as follows:

Sunday, August 26: 3:00 p.m. to 8:00 p.m.;

Monday, August 27: 11:00 a.m. to 2:00 p.m. and 3:00 p.m. to 7:00 p.m.;

Tuesday, August 28: 3:00 p.m. to 7:00 p.m.;

Wednesday, August 29: 3:00 p.m. to 7:00 p.m.; and

Thursday, August 30: 3:00 p.m. to 7:00 p.m.

A Port Community Information Bulletin (PCIB) will be distributed by Coast Guard Sector St. Petersburg. The PCIB will be available on the Coast Guard Internet web portal at http://homeport.uscg.mil. PCIBs are located under the Port Directory tab in the Safety and Security Alert links. The Coast Guard will provide notice of the security zones by Local Notice to Mariners, Broadcast Notice to Mariners, public outreach, and on-scene designated representatives.

D. Regulatory Analyses

We developed this rule after considering numerous statutes and executive orders related to rulemaking. Below we summarize our analyses based on 13 of these statutes or executive orders.

1. Regulatory Planning and Review

This rule is not a significant regulatory action under section 3(f) of Executive Order 12866, Regulatory Planning and Review, as supplemented by Executive Order 13563, and does not require an assessment of potential costs and benefits under section 6(a)(3) of Executive Order 12866 or under section 1 of Executive Order 13563. The Office of Management and Budget has not reviewed it under that Order.

The economic impact of this rule is not significant for the following reasons: (1) The security zone will be effective for only six days; (2) although persons and vessels are prohibited from remaining or anchoring within the security zones during the effective dates, normal navigational transits will be authorized; and (3) vessels may operate in the area outside the security zones during the effective period.

2. Impact on Small Entities

The Regulatory Flexibility Act of 1980 (RFA), 5 U.S.C. 601-612, as amended, requires federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this rule will not have a significant economic impact on a substantial number of small entities.

This rule would affect the following entities, some of which might be small entities: The owners or operators of vessels intending to anchor or remain in any of the fifteen security zones during the effective periods described in the rule. These security zones would not have a significant economic impact on a substantial number of small entities for the reasons discussed in the Regulatory Planning and Review section above.

3. Assistance for Small Entities

Under section 213(a) of the Small Business Regulatory Enforcement Fairness Act of 1996 (Pub. L. 104-121), we want to assist small entities in understanding this rule. If the rule would affect your small business, organization, or governmental jurisdiction and you have questions concerning its provisions or options for compliance, please contact the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

4. Collection of Information

This rule calls for no new collection of information under the Paperwork Reduction Act of 1995 (44 U.S.C. 3501-3520).

5. Federalism

A rule has implications for federalism under Executive Order 13132, Federalism, if it has a substantial direct effect on the States, on the relationship between the national government and the States, or on the distribution of power and responsibilities among the various levels of government. We have analyzed this rule under that Order and determined that this rule does not have implications for federalism.

6. Protest Activities

The Coast Guard respects the First Amendment rights of protesters. Protesters are asked to contact the person listed in the FOR FURTHER INFORMATION CONTACT section to coordinate protest activities so that your message can be received without jeopardizing the safety or security of people, places or vessels.

7. Unfunded Mandates Reform Act

The Unfunded Mandates Reform Act of 1995 (2 U.S.C. 1531-1538) requires Federal agencies to assess the effects of their discretionary regulatory actions. In particular, the Act addresses actions that may result in the expenditure by a State, local, or Tribal government, in the aggregate, or by the private sector of $100,000,000 or more in any one year. Though this rule will not result in such expenditure, we do discuss the effects of this rule elsewhere in this preamble.

8. Taking of Private Property

This rule will not cause a taking of private property or otherwise have taking implications under Executive Order 12630, Governmental Actions and Interference with Constitutionally Protected Property Rights.

9. Civil Justice Reform

This rule meets applicable standards in sections 3(a) and 3(b)(2) of Executive Order 12988, Civil Justice Reform, to minimize litigation, eliminate ambiguity, and reduce burden.

10. Protection of Children

We have analyzed this rule under Executive Order 13045, Protection of Children from Environmental Health Risks and Safety Risks. This rule is not an economically significant rule and does not create an environmental risk to health or risk to safety that might disproportionately affect children.

11. Indian Tribal Governments

This rule does not have Tribal implications under Executive Order 13175, Consultation and Coordination with Indian Tribal Governments, because it does not have a substantial direct effect on one or more Indian Tribes, on the relationship between the Federal Government and Indian Tribes, or on the distribution of power and responsibilities between the Federal Government and Indian Tribes.

12. Energy Effects

This action is not a “significant energy action” under Executive Order 13211, Actions Concerning Regulations That Significantly Affect Energy Supply, Distribution, or Use.

13. Technical Standards

This rule does not use technical standards. Therefore, we did not consider the use of voluntary consensus standards.

14. Environment

We have analyzed this rule under Department of Homeland Security Management Directive 023-01 and Commandant Instruction M16475.lD, which guide the Coast Guard in complying with the National Environmental Policy Act of 1969 (NEPA) (42 U.S.C. 4321-4370f), and have determined that this action is one of a category of actions that do not individually or cumulatively have a significant effect on the human environment. This rule involves the establishment of fifteen temporary security zones. This rule is categorically excluded from further review under paragraph (34)(g) of Figure 2-1 of the Commandant Instruction. An environmental analysis checklist supporting this determination and a Categorical Exclusion Determination are available in the docket where indicated under ADDRESSES. We seek any comments or information that may lead to the discovery of a significant environmental impact from this rule.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1226, 1231; 46 U.S.C. Chapter 701, 3306, 3703; 50 U.S.C. 191, 195; 33 CFR 1.05-1, 6.04-1, 6.04-6, 160.5; Pub. L. 107-295, 116 Stat. 2064; Department of Homeland Security Delegation No. 0170.1.

2. Add a temporary § 165.T07-0707 to read as follows:

§ 165.T07-0707 Security Zones; 2012 Republican National Convention, Captain of the Port St. Petersburg Zone, Tampa, FL.

(a) Regulated Areas. All waters under and within 50 yards of either side of the following bridges are established as temporary security zones:

(1) The Gandy Bridge,

(2) Howard Franklin Bridge,

(3) Courtney Campbell Causeway Bridge,

(4) The Clearwater Memorial Causeway (60),

(5) Sand Key Bridge (699),

(6) Belleair Causeway Bridge,

(7) Walsingham Rd Bridge (688),

(8) Park Blvd.(co Rd 694),

(9) Welch Causeway (Tom Stuart Causeway/150th Ave),

(10) Seminole Bridge (Bay Pines Blvd./19/595),

(11) Johns Pass Bridge (Gulf Blvd./699),

(12) Treasure Island Causeway (Central Ave),

(13) Corey Causeway (Pasadena Ave),

(14) Blind Pass Bridge (699),

(15) Pinellas Bayway Structure A, B, and C.

(b) Definition. The term “designated representative” means Coast Guard Patrol Commanders, including Coast Guard boat coxswains, petty officers, and other officers operating Coast Guard vessels, and Federal, state, and local officials designated by or assisting the Captain of the Port St. Petersburg in the enforcement of the regulated areas.

(c) Regulations.

(1) All persons and vessels are prohibited from loitering, anchoring, stopping, or mooring under or within the regulated areas, unless authorized by a designated representative. Expeditious transiting through the security zones is authorized.

(2) The security zones will be enforced at all times from 12:01 p.m. on Saturday, August 25, 2012, through 1:00 a.m. on Friday, August 31, 2012, for the Gandy Bridge, Howard Franklin Bridge, and Courtney Campbell Causeway Bridge.

(3) The security zones will be enforced for the Clearwater Memorial Causeway (60); Sand Key Bridge (699); Belleair Causeway Bridge; Walsingham Rd Bridge (688); Park Blvd.(co Rd 694); Welch Causeway (Tom Stuart Causeway/150th Ave); Seminole Bridge (Bay Pines Blvd./19/595); Johns Pass Bridge (Gulf Blvd./699); Treasure Island Causeway (Central Ave); Corey Causeway (Pasadena Ave); Blind Pass Bridge (699); and Pinellas Bayway Structures A, B, and C; as follows:

(i) Sunday, August 26: 3:00 p.m. to 8:00 p.m.;

(ii) Monday, August 27: 11:00 a.m. to 2:00 p.m. and 3:00 p.m. to 7:00 p.m.;

(iii) Tuesday, August 28: 3:00 p.m. to 7:00 p.m.;

(iv) Wednesday August 29: 3:00 p.m. to 7:00 p.m.; and

(v) Thursday August 30: 3:00 p.m. to 7:00 p.m.

(4) A Port Community Information Bulletin is available on the Coast Guard Internet Web portal at http://homeport.uscg.mil. Port Community Information Bulletins are located under the Port Directory tab in the Safety and Security Alert links.

(5) The Coast Guard will provide notice of the regulated areas by Local Notice to Mariners, Broadcast Notice to Mariners, public outreach, and on-scene designated representatives.

(d) Effective Date. This rule is effective from 12:01 p.m. on Saturday, August 25, 2012, through 1:00 a.m. on Friday, August 31, 2012.

Dated: August 14, 2012.
S.L. Dickinson,
Captain, U.S. Coast Guard, Captain of the Port St. Petersburg.

[FR Doc. 2012-20699 Filed 8-22-12; 8:45 am]

BILLING CODE 9110-04-P